DEPARTMENT OF DEFENSE

Department of the Army; Corps of Engineers

Intent To Prepare a Draft Environmental Impact Statement/Environmental Impact Report (DEIS/EIR) for the San Jacinto River, Riverside County, CA

AGENCY: Department of the Army, U.S. Army Corps of Engineers, DoD.

ACTION: Notice of intent.

SUMMARY: The purpose of the study is to evaluate approximately a 2-mile reach of the San Jacinto River located in Riverside County in the City of San Jacinto, CA. The focus will be on watershed improvements by developing alternatives for ecosystem restoration and incorporating conjunctive uses for groundwater recharge, water quality and water conservation from a mile up from Main Street to a mile past the end of San Jacinto Street. The restoration project will focus on revitalization of the riparian vegetation community; establish environmental corridor to benefit wildlife and sensitive species; increasing recharge of the San Jacinto groundwater basins; and restoring the habitat for the endangered San Bernardino Kangaroo Rat. The San Jacinto River is located about 20 miles southeast of the City of Riverside and is entirely within Riverside County, CA.

DATES: Provide comments by August 22, 2007.

ADDRESSES: Submit comments to Mrs. Priscilla E. Perry at U.S. Army Corps of Engineers, Los Angeles District, CESPL-PD-RL, P.O. Box 532711, Los Angeles, CA 90053-2325.

FOR FURTHER INFORMATION CONTACT: Mrs. Priscilla E. Perry, Chief, Regional Planning, Environmental Engineers, at 213-452-3867, 213-713-2677; Fax 213-452-4204 or e-mail at Priscilla.e.Perry@usace.army.mil.

SUPPLEMENTARY INFORMATION: 1. Authorization. The proposed study is authorized by the Flood Control Act 1936; WRDA 1986, Public Law 99-662: House Resolution dated October 9, 1998, Section 416 of WRDA 2000, which reads as follows:

“San Jacinto River, California.—The Committee has provided $100,000 for the Corps of Engineers to initiate a reconnaissance study to examine flood control, environmental enhancement and related purposes along the San Jacinto River, California, between the City of San Jacinto and the City of Lake Elsinore”.

Section 416 of WRDA 2000:

Section 416. San Jacinto Watershed, California.

(a) In General.—The Secretary shall conduct a watershed study for the San Jacinto watershed, California.

(b) Authorization of Appropriations.—There is authorized to be appropriated to carry out this section $250,000”.

2. Background. The construction of the San Jacinto levee project in 1961 proved to be effective in preventing flood damages during the 1969 floods on the San Jacinto River. The February 1980 floods were not any greater than the 1969 floods, but caused the San Jacinto River levee to fail resulting in massive flooding in the City of San Jacinto. The levee was repaired by adding toe stone, groins, and extending the Bautista Creek concrete channel by another 1.3 miles to the confluence with San Jacinto Creek around the late 1984 to early 1985 timeframe. The 2-mile reach of the San Jacinto River which is located a mile up from Main Street to a mile past the end of San Jacinto Street, poses damage to aquatic ecosytems from past flooding and types of anthropogenic activities. Ecosystems processes that help maintain groundwater supplies must be protected and restored where degraded. Increasing groundwater recharge is a way to support the ecosystem and improve the habitat for the endangered San Bernardino Kangaroo Rat. Alternatives to be considered are those that will reduce adverse water quality impacts from runoff; reduce further degradation of the river and the area ecosystem and improve the quality of both ground and surface waters.

3. Scoping Process. a. A scoping meeting is scheduled for August 22, 6 p.m.-8 p.m. at Simpson Center—305 E. Devonshire Ave., Hemet, CA 92543.

For specific dates, times and locations please contact Peter Odencrans, Eastern Municipal Water District, at 951-928-3777 or e-mail at: odencransp@emwd.org. Potential impacts associated with the proposed action will be evaluated. Resource categories that will be analyzed are: physical environment, geology, biological resources, air quality, water quality, recreational usage, aesthetics, cultural resources, transportation, noise, hazardous waste, socioeconomics and safety.

b. Participation of affected Federal, State and local resource agencies, Native American groups and concerned interest groups/individuals is encouraged in the scoping process. Public participation will be especially important in defining the scope of analysis in the Draft EIS/EIR, identifying significant environmental issues and impact analysis of the Draft EIS/EIR and providing useful information such as published and unpublished data, personal knowledge of relevant issues and recommending mitigation measures associated with the proposed action.

c. Those interested in providing information or data relevant to the environmental or social impacts that should be included or considered in the environmental analysis can furnish this information by writing to the points of contact indicated above or by attending the public scoping meeting. A mailing list will also be established so pertinent data may be distributed to interested parties.

Dated: July 9, 2007.
Alex C. Dornstauder,
Colonel, U.S. Army, District Engineer.

[FR Doc. 07-3539 Filed 7-19-07; 8:45 am]

BILLING CODE 3710-KF-M